DEPARTMENT OF ENERGY

Federal Energy Regulatory Commission

[Project No. 12690-003]

Public Utility District No. 1 of Snohomish County, WA; Notice of Intent To File License Application, Filing of Draft Application, Request for Waivers of Integrated Licensing Process Regulations Necessary for Expedited Processing of a Hydrokinetic Pilot Project License Application, and Soliciting Comments

December 30, 2009.

a. Type of Filing: Notice of Intent to File a License Application for an Original License for a Hydrokinetic Pilot Project.

b. Project No.: 12690-003.

c. Date Filed: December 28, 2009.

d. Submitted By: Public Utility District No. 1 of Snohomish County, Washington (Snohomish PUD)

e. Name of Project: Admiralty Inlet Pilot Tidal Project.

f. Location: On the east side of Admiralty Inlet in Puget Sound, Washington, about 1 kilometer west of Whidbey Island, entirely within Island County, Washington. The project would not occupy any Federal lands.

g. Filed Pursuant to: 18 CFR 5.3 and 5.5 of the Commission's regulations.

h. Applicant Contact: Steven J. Klein, Public Utility District of Snohomish County, Washington, P.O. Box 1107, 2320, California Street, Everett, WA 98206-1107; (425) 783-8473.

i. FERC Contact: David Turner (202) 502-6091.

j. Snohomish PUD has filed with the Commission: (1) A notice of intent (NOI) to file an application for an original license for a hydrokinetic pilot project and a draft license application with monitoring plans; (2) a request for waivers of the integrated licensing process regulations necessary for expedited processing of a hydrokinetic pilot project license application; and (3) a proposed process plan and schedule.

k. With this notice, we are soliciting comments on the pre-filing materials listed in paragraph j above, including the draft license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (Admiralty Inlet Pilot Tidal Project) and number (P-12690-003), and bear the heading “Comments on the proposed Admiralty Inlet Pilot Tidal Project.” Any individual or entity interested in submitting comments on the pre-filing materials must do so by February 26, 2010.

Comments may be filed electronically via the Internet in lieu of paper. The Commission strongly encourages electronic filings. See 18 CFR 385.2001(a)(1)(iii) and the instructions on the Commission's Web site (http://www.ferc.gov) under the “e-filing” link.

l. Snohomish PUD was designated as the non-federal representative for section 7 of the Endangered Species Act consultation and for section 106 consultation under the National Historic Preservation Act on November 7, 2008.

m. This notice does not constitute the Commission's approval of Snohomish PUD's request to use the Pilot Project Licensing Procedures. Upon its review of the project's overall characteristics relative to the pilot project criteria, the draft license application contents, and any comments filed, the Commission will determine whether there is adequate information to conclude the pre-filing process.

n. The proposed Admiralty Inlet Pilot Tidal Project would consist of (1) two 10-meter, 500-kilowatt (kW) Open-Centre Turbines supplied by OpenHydro Group Ltd., mounted on completely submerged gravity foundations; (2) two 250-meter service cables connected at a subsea junction box or spliced to a 0.5-kilometer subsea transmission cable, connecting to a cable termination vault about 50 meters from shore; (3) two 81-meter-long buried conduits containing the two DC transmission lines from the turbines and connecting to a power conditioning and control building; (4) a 140-meter-long buried cable from the control building to the grid; and (5) appurtenant facilities for operation and maintenance. The estimated annual generation of the project is 383,000 kilowatt-hours.

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659.

p. Pre-filing process schedule. The pre-filing process will be conducted pursuant to the following tentative schedule. Snohomish PUD plans to complete studies in 2010 to provide further support for the environmental analysis. Revisions to the schedule below may be made based on staff's review of the draft application and any comments received.

Milestone | Date
Comments on pre-filing materials due | February 26, 2010
Issuance of meeting notice (if needed) | March 15, 2010
Public meeting/technical conference (if needed) | April 14, 2010
Issuance of notice concluding pre-filing process and ILP waiver request determination | March 28, 2010 (if no meeting is needed). April 29, 2010 (if meeting is needed)

q. Register online at http://ferc.gov/esubscribenow.htm to be notified via e-mail of new filing and issuances related to this or other pending projects. For assistance, contact FERC Online Support.

Kimberly D. Bose,
Secretary.

[FR Doc. 2010-64 Filed 1-7-10; 8:45 am]

BILLING CODE 6717-01-P